NUCLEAR REGULATORY COMMISSION

[Docket No. 50-271; License No. DPR-28]

Entergy Nuclear Operations, Inc. Vermont Yankee Nuclear Power Station; Notice of Issuance of Director's Decision Under 10 CFR 2.206

Notice is hereby given that the Director, Office of Nuclear Reactor Regulation, U.S. Nuclear Regulatory Commission (NRC) has issued a Director's Decision on an April 23, 2004, petition by the New England Coalition, hereinafter referred to as the “Petitioner.” The petition was supplemented on September 10, 2004. The petition concerns the operation of the Vermont Yankee Nuclear Power Station (Vermont Yankee).

The basis for the April 23, 2004, petition, was the absence of two pieces of fuel rods in the spent fuel pool (SFP) at Vermont Yankee from their documented location. The Petitioner stated that Entergy Nuclear Operations, Inc. (Entergy or the licensee) had lost control of the spent fuel inventory at Vermont Yankee. The Petitioner would have no confidence that Entergy did not put leaking fuel rods or suspected leaking fuel assemblies back into the reactor core during the April 2004 refueling outage until Entergy accounted for all special nuclear material (SNM). The New England Coalition contends that operation with leaking fuel in the reactor core would be potentially unsafe and in violation of Federal regulations.

On May 5 and September 22, 2004, the Petitioner and the licensee met with the staff's Petition Review Board (PRB). These meetings gave the Petitioner and the licensee an opportunity to provide additional information and to clarify issues raised in the petition.

The NRC sent a copy of the proposed Director's Decision to the Petitioner and to the licensee for comment on December 27, 2004. The Petitioner responded with comments on January 25, 2005. The comments and the NRC staff's responses are included in the Director's Decision. The staff did not receive any comments from the licensee.

The Director of the Office of Nuclear Reactor Regulation denies the Petitioner's request that the NRC make Entergy do an accurate and NRC-verified inventory of the location, disposition, and condition of all irradiated fuel, including fuel currently loaded in the reactor, and order Entergy to halt all fuel movement at Vermont Yankee until the inventory is completed. The reasons for this decision are explained in the Director's Decision pursuant to Title 10 of Code of Federal Regulations (10 CFR), Section 2.206 (DD-05-01), the complete text of which is available in ADAMS for inspection at the Commission's Public Document Room at One White Flint North, Public File Area O1 F21, 11555 Rockville Pike (first floor), Rockville, Maryland, and from the ADAMS Public Library component of the NRC's Web site, http://www.nrc.gov/reading-rm.html (the Public Electronic Reading Room).

The Petitioner's request that all fuel movement be stopped is moot. All fuel movement for the April 2004 refueling outage had been completed before the NRC received the petition. The licensee has completed a documented inventory to confirm the total number of fuel assemblies and their locations and the locations of the individual rods. The licensee successfully located the two fuel rod pieces in the SFP and did core verifications. The NRC therefore concludes that as of July 13, 2004, Entergy has been in full compliance with regulatory requirements to account for all SNM in its possession. Therefore the Petitioner's request has in effect been granted. The licensee took the requested actions voluntarily obviating the need for an order. Furthermore, the licensee has updated its inventory of SNM, so there is no need for the NRC to prohibit fuel movement.

The Petitioner claimed to have no confidence that Entergy did not put leaking fuel or suspected leaking fuel assemblies back into the reactor core during the last refueling outage. The NRC inspectors verified that no leaking fuel assemblies were reloaded in the reactor core. The NRC has concluded that Entergy is now in compliance with regulatory requirements to account for all SNM. However in the special inspection report issued on December 2, 2004, the inspectors identified an apparent violation of 10 CFR 74.19, “Material Control and Accounting of Special Nuclear Material-Recordkeeping,” related to the two spent fuel rod pieces. The NRC is considering escalated enforcement action for this finding.

A copy of the Director's Decision will be filed with the Secretary of the Commission for the Commission's review in accordance with 10 CFR 2.206 of the Commission's regulations. As provided for by this regulation, the Director's Decision will constitute the final action of the Commission 25 days after the date of the decision, unless the Commission, on its own motion, institutes a review of the Director's Decision in that time.

Dated at Rockville, Maryland, this 10th day of March 2005.
For the Nuclear Regulatory Commission.
J.E. Dyer,
Director, Office of Nuclear Reactor Regulation.

[FR Doc. 05-5277 Filed 3-16-05; 8:45 am]

BILLING CODE 7590-01-P